DEPARTMENT OF COMMERCE

National Oceanic and Atmospheric Administration

50 CFR Part 660

[Docket No. 080408542-8615-01]

RIN 0648-XM20

Fisheries off West Coast States; Pacific Coast Groundfish Fishery; Pacific Whiting Allocation

AGENCY: National Marine Fisheries Service (NMFS), National Oceanic and Atmospheric Administration (NOAA), Commerce.

ACTION: Reapportionment of surplus Pacific whiting allocation; request for comments.

SUMMARY: NMFS has determined that 4,000 metric tons (mt) of the shore-based sector allocation and 6,000 mt of the mothership sector allocation would not be used by December 31, 2008. Therefore, NMFS has reapportioned the surplus whiting to the catcher/processor sector of the fishery.

DATES: Effective from 1400 local time (l.t.) November 26, 2008, until December 31, 2008, unless modified, superseded or rescinded. Comments will be accepted through February 27, 2009.

ADDRESSES: You may submit comments, identified by the RIN number 0648-XM20, by any one of the following methods:

• Electronic Submissions: Submit all electronic public comments via the Federal eRulemaking Portal http://www.regulations.gov

• Fax: 206-526-6736, Attn: Becky Renko

• Mail: Barry A. Thom, Acting Regional Administrator, Northwest Region, NMFS, 7600 Sand Point Way NE, Seattle, WA 98115-0070, Attn: Becky Renko

Instructions: All comments received are a part of the public record and will generally be posted to http://www.regulations.gov without change. All personal identifying information (for example, name, address, etc.) voluntarily submitted by the commenter may be publicly accessible. Do not submit confidential business information, or otherwise sensitive or protected information.

NMFS will accept anonymous comments (enter N/A in the required fields, if you wish to remain anonymous). Attachments to electronic comments will be accepted in Microsoft Word, Excel, WordPerfect, or Adobe PDF file formats only.

FOR FURTHER INFORMATION CONTACT: Becky Renko, telephone: 206 526 6110; fax: 206 526 6736; or, e-mail: becky.renko@noaa.gov.

SUPPLEMENTARY INFORMATION: This action is authorized by regulations implementing the Pacific Coast Groundfish Fishery Management Plan (FMP), which governs the groundfish fishery off Washington, Oregon, and California.

The 2008 non-tribal commercial OY for Pacific whiting is 232,545 mt. Regulations at 50 CFR 660.323(a)(2) divide the commercial Pacific whiting optimum yield (OY) into separate allocations for the catcher/processor, mothership, and shore-based sectors. The catcher/processor sector is composed of vessels that harvest and process Pacific whiting. The mothership sector is composed of catcher vessels that harvest Pacific whiting and mothership vessels that process, but do not harvest. The shore-based sector is composed of vessels that harvest Pacific whiting for delivery to land-based processors. Each commercial sector receives a portion of the commercial OY. For 2008 the catcher/processors initially received 34 percent (79,065 mt), the motherships received 24 percent (55,811 mt), and the shore-based sector received 42 percent (97,669 mt).

On November 5, 2008, 20,000 mt of the 97,669 mt shore-based sector's allocation was reapportioned to the catcher/processor and mothership sectors (73 FR 72739, December 1, 2008). The revised Pacific whiting allocations by sector as of November 6, 2008 were: catcher/processor 90,789 mt, mothership 64,087 mt, and shore-based 77,669 mt. On November 18, 2008, an additional 15,000 mt of the shore-based sector's allocation was reapportioned to the catcher/processor sector (73 FR 72739, December 1, 2008). The revised Pacific whiting allocations by sector as of November 18, 2008 were: catcher/processor 105,789 mt, mothership 64,087 mt, and shore-based 62,669 mt.

The best available information on November 26, 2008, indicated that 4,000 mt of the shore-based sector allocation and 6,000 mt of mothership sector allocation would not be used by December 31, 2008. Therefore the surplus Pacific whiting was reapportioned from the shore-based and mothership sectors to the catcher/processor sector on November 26, 2008. Facsimiles directly to fishing businesses and postings on the Northwest Regions internet site were used to provide actual notice to the affected fishers.

NMFS Action

This action announces the reapportionment of 4,000 mt of Pacific whiting from the shore-based sector and 6,000 mt of Pacific whiting from the mothership sector to the catcher/processor sector at 1400 local time November 26, 2008. As of November 26, 2008, the revised Pacific whiting allocations by sector for 2008 were: catcher/processor 115,789 mt, mothership 64,087 mt, and shore-based 77,669 mt.

Classification

The determinations to take these actions were based on the most recent data available. The aggregate data upon which the determinations were based are available for public inspection at the Office of the Regional Administrator (see ADDRESSES) during business hours.

This action is authorized by the regulations implementing the FMP. The Assistant Administrator for Fisheries, NMFS, finds good cause to waive the requirement to provide prior notice and opportunity for comment on these actions pursuant to 5 U.S.C. 553 (3)(b)(B), because providing prior notice and opportunity would be impracticable. It would be impracticable because of the need for immediate action. NMFS has determined that providing an opportunity for prior notice and comment would be impractical and contrary to public interest. Delay of this action would leave Pacific whiting unharvested. In addition, the catcher/processors needed an immediate reallocation if they were to keep their workers employed. For these same reasons the agency finds good cause to waive the 30-day delay in effectiveness. These actions are taken under the authority of 50 CFR 660.323(c), and are exempt from review under Executive Order 12866. Actual notice of the reapportionments was provided to the affected fishers.

Authority: 16 U.S.C. 1801 et seq.

Dated: February 9, 2009.
Emily H. Menashes,
Acting Director, Office of Sustainable Fisheries, National Marine Fisheries Service.

[FR Doc. E9-3022 Filed 2-11-09; 8:45 am]

BILLING CODE 3510-22-S